SMALL BUSINESS ADMINISTRATION

[Disaster Declaration #13971 and #13972]

Florida Disaster Number FL-00100

AGENCY: U.S. Small Business Administration.

ACTION: Amendment 2.

SUMMARY: This is an amendment of the Presidential declaration of a major disaster for the State of Florida (FEMA-4177-DR), dated 05/06/2014.

Incident: Severe storms, tornadoes, straight-line winds, and flooding.

Incident Period: 04/28/2014 through 05/06/2014.

Effective Date: 05/21/2014.

Physical Loan Application Deadline Date: 07/07/2014.

EIDL Loan Application Deadline Date: 02/06/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Florida, dated 05/06/2014 is hereby amended to include the following areas as adversely affected by the disaster:

Primary Counties: (Physical Damage and Economic Injury Loans): Jackson

Contiguous Counties: (Economic Injury Loans Only):

Florida: Calhoun Gadsden Liberty

Alabama: Houston

Georgia: Seminole

All other information in the original declaration remains unchanged.

(Catalog of Federal Domestic Assistance Numbers 59002 and 59008).

James E. Rivera,
Associate Administrator, for Disaster Assistance.

[FR Doc. 2014-12556 Filed 5-29-14; 8:45 am]

BILLING CODE 8025-01-P